ENVIRONMENTAL PROTECTION AGENCY

40 CFR Part 80

Regulation of Fuels and Fuel Additives

CFR Correction

In Title 40 of the Code of Federal Regulations, parts 72 to 80, revised as of July 1, 2006, on page 695, § 80.75 is corrected by reinstating paragraph (a)(2) to read as follows:

§ 80.75 Reporting requirements.

* * * * *

(a) * * *

(2) The following information shall be included in each quarterly report for each batch of reformulated gasoline or RBOB which is included under paragraph (a)(1) of this section:

(i) The batch number;

(ii) The date of production;

(iii) The volume of the batch;

(iv) The grade of gasoline produced (i.e., premium, mid-grade, or regular);

(v) For any refiner or importer:

(A) Each designation of the gasoline, pursuant to § 80.65; and

(B) The properties, pursuant to §§ 80.65 and 80.66;

(vi) For any importer, the PADD in which the import facility is located;

(vii) [Reserved]

(viii) In the case of any previously certified gasoline used in a refinery operation under the terms of § 80.65(i), the following information relative to the previously certified gasoline when received at the refinery:

(A) Identification of the previously certified gasoline as such;

(B) The batch number assigned by the receiving refinery;

(C) The date of receipt; and

(D) The volume, properties and designation of the batch.

* * * * *

[FR Doc. 06-55529 Filed 11-17-06; 8:45 am]

BILLING CODE 1505-01-D